NUCLEAR REGULATORY COMMISSION

[Docket No. 70-1151; NRC-2015-0039]

Westinghouse Electric Company, LLC; Columbia Fuel Fabrication Facility

AGENCY: Nuclear Regulatory Commission.

ACTION: Intent to prepare an environmental impact statement and conduct a scoping process; request for comment.

SUMMARY: The U.S. Nuclear Regulatory Commission (NRC) will conduct a scoping process to gather information necessary to prepare an environmental impact statement (EIS) related to the review of Westinghouse Electric Company, LLC's (WEC) request to renew its operating license for its Columbia Fuel Fabrication Facility (CFFF) in Hopkins, South Carolina. The NRC had published a draft environmental assessment (EA) but determined it was not able to conclude the review in a finding of no significant impact. Therefore, the NRC staff will prepare an EIS to document the potential environmental impacts from the proposed action (i.e., whether to renew WEC's CFFF operating license) and reasonable alternatives. As part of the EIS development process, the NRC is seeking comments on the scope of its environmental review.

DATES: Comments must be filed by August 31, 2020. Comments received after this date will be considered, if it is practical to do so, but the Commission is able to ensure consideration only for comments received on or before this date.

ADDRESSES: You may submit comments by any of the following methods:

• Federal Rulemaking Website: Go to https://www.regulations.gov and search for Docket ID NRC-2015-0039. Address questions about Docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001.

• Email comments to: WEC_CFFF_EIS.resource@nrc.gov.

For additional direction on obtaining information and submitting comments, see “Obtaining Information and Submitting Comments” in the SUPPLEMENTARY INFORMATION section of this document.

FOR FURTHER INFORMATION CONTACT: Diana Diaz-Toro, Office of Nuclear Material Safety and Safeguards, U.S. Nuclear Regulatory Commission, Washington, DC 20555-0001; telephone: 301-415-0930; email: Diana.Diaz-Toro@nrc.gov.

SUPPLEMENTARY INFORMATION:

I. Obtaining Information and Submitting Comments

A. Obtaining Information

Please refer to Docket ID NRC-2015-0039 when contacting the NRC about the availability of information for this action. You may obtain publicly-available information related to this action by the following methods:

• Federal Rulemaking Website: Go to https://www.regulations.gov and search for Docket ID NRC-2015-0039.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov. The ADAMS accession number for each document referenced is provided in a table at the end of this document.

• Project Website: Information related to the WEC project can be accessed on the NRC's project web page at: https://www.nrc.gov/info-finder/fc/westinghouse-fuel-fab-fac-sc-lc.html.

B. Submitting Comments

Please include Docket ID NRC-2015-0039 in your comment submission. The NRC cautions you not to include identifying or contact information that you do not want to be publicly disclosed in your comment submission. The NRC posts all comment submissions at https://www.regulations.gov and will enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

The NRC intends to prepare an EIS for the WEC license renewal application for its CFFF in accordance with part 51 of title 10 of the Code of Federal Regulations (10 CFR) “Environmental Protection Regulations for Domestic Licensing and Related Regulatory Functions.” The NRC will provide the public with an opportunity to participate in the environmental scoping process by inviting them to submit written comments in the scoping period.

III. Alternatives To Be Evaluated

The EIS will analyze the environmental impacts of the proposed action, the no-action alternative, and reasonable alternatives. A brief description of each is provided below.

Proposed action—The proposed Federal action is to renew WEC's CFFF operating license (SNM-1107) which will allow continued operation of the facility (i.e., fabricating nuclear fuel for nuclear reactors) for an additional 40 years.

No-Action Alternative—The no-action alternative would be to not renew WEC's license. Under this alternative, the NRC would not issue the license renewal and CFFF would continue to operate under its current license until it expires in 2027.

Other Alternatives to the Proposed Action—The NRC is considering other alternatives to the proposed action, including the granting of WEC's license renewal request, but for a period of less than 40 years. Other alternatives not listed here may be identified during scoping or through the EIS development process.

IV. Scoping

The NRC staff is conducting a scoping process for the WEC CFFF EIS. In accordance with 10 CFR 51.29, the NRC seeks public input to help the NRC determine the appropriate scope of the EIS, including significant environmental issues to be analyzed in depth, as well as those that should be eliminated from detailed study because they are peripheral or are not significant.

The NRC previously accepted comments on the draft EA published in October 2019. Those comments can be found at https://www.regulations.gov under Docket ID NRC-2015-0039 or in NRC's ADAMS Public Documents collection at https://www.nrc.gov/reading-rm/adams.html, and will be considered in the development of the EIS.

After the close of the scoping period, the NRC staff will prepare a concise summary of its scoping process in accordance with 10 CFR 51.29(b). The scoping summary report will be sent to each participant in the scoping process for whom the staff has a physical or email address.

The WEC CFFF EIS will address the potential impacts from the proposed action, including both radiological and non-radiological impacts associated with the proposed project and its alternatives. The EIS will also consider unavoidable adverse environmental impacts, the relationship between short-term uses of resources and long-term productivity, and irreversible and irretrievable commitments of resources. The following resource areas were addressed in the draft EA and, thus, will be addressed in the EIS: Land use, transportation, geology and soils, water resources, ecological resources, air quality and climate change, noise, historical and cultural resources, visual and scenic resources, socioeconomics, public and occupational health, waste management, accidents, and environmental justice.

The NRC encourages members of the public, local, State, Tribal, and Federal government agencies to participate in the scoping process. Written comments may be submitted during the scoping period as described in the ADDRESSES and SUPPLEMENTARY INFORMATION sections of this document.

The NRC staff will continue its environmental review of WEC's license renewal application, and with an NRC contractor, prepare a draft EIS and publish it for public comment as soon as practicable. The NRC staff plans to have a public comment period for the draft EIS. Availability of the draft EIS and the dates of the public comment period will be announced in a future Federal Register notice. The final EIS will include NRC's responses to public comments received on the draft EIS.

V. Availability of Documents

The documents identified in this notice are accessible to interested persons by the means indicated in either the SUPPLEMENTARY INFORMATION section of this notice or in the table below.

Document | ADAMS accession No.
Westinghouse license renewal application (August 2019) | ML19234A077
Environmental Report (March 2019) | ML19088A100
NRC's Draft Environmental Assessment (October 2019) | ML19228A278
Final Interim Remedial Investigation Data Summary Report (February 2020) | ML20063P321
Letter to Westinghouse regarding decision to pursue an EIS (June 2020) | ML20150A289

Dated: July 20, 2020.
For the Nuclear Regulatory Commission.
Jessie M. Quintero,
Acting Chief, Environmental Review Materials Branch, Division of Rulemaking, Environmental and Financial Support, Office of Nuclear Material Safety and Safeguards.

[FR Doc. 2020-16150 Filed 7-30-20; 8:45 am]

BILLING CODE 7590-01-P